DEPARTMENT OF JUSTICE

Antitrust Division

Notice Pursuant to the National Cooperative Research and Production Act of 1993—Organic ASICs

Notice is hereby given that, on October 26, 2000, pursuant to section 6(a) of the National Cooperative Research and Production Act of 1993, 15 U.S.C. 4301 et seq. (“the Act”), Motorola, Inc. has filed written notifications, on behalf of a joint venture known as Organic ASICs, simultaneously with the Attorney General and the Federal Trade Commission disclosing (1) the identities of the parties and (2) the nature and objectives of the venture. The notifications were filed for the purpose of invoking the Act's provisions limiting the recovery of antitrust plaintiffs to actual damages under specified circumstances. Pursuant to section 6(b) of the Act, the identities of the parties are The Dow Chemical Company, Midland, MI; Motorola, Inc., Schaumburg, IL; and Xerox Corporation, Palo Alto, CA. The nature and objectives of the venture are to engage in a collaborative effort of limited duration to gain further knowledge and understanding of, and to develop new materials and technology for, devices fabricated from organic semiconductor materials.

Constance K. Robinson,
Director of Operations, Antitrust Division.

[FR Doc. 01-8408 Filed 4-4-01; 8:45 am]

BILLING CODE 4410-11-M